FEDERAL DEPOSIT INSURANCE CORPORATION

Sunshine Act Meeting; Notice of Change in Subject Matter of Agency Meeting

Pursuant to the provisions of subsection (d)(2) of the “Government in the Sunshine Act” (5 U.S.C. 552b(e)(2)), notice is hereby given that at its closed meeting held at 12:10 p.m. on Monday, June 28, 2004, the Corporation's Board of Directors determined, on motion of Director James E. Gilleran (Office of Thrift Supervision), seconded by Ms. Julie L. Williams, acting in the place and stead of Director John D. Hawke, Jr. (Comptroller of the Currency), concurred in by Director Thomas J. Curry, Vice Chairman John M. Reich, and Chairman Donald E. Powell, that Corporation business required the addition to the agenda for consideration at the meeting, on less than seven days' notice to the public, of a report regarding certain supervisory matters.

The Board further determined, by the same majority vote, that no earlier notice of this change in the subject matter of the meeting was practicable; that the public interest did not require consideration of the matter in a meeting open to public observation; and that the matter could be considered in a closed meeting by authority of subsections (c)(6), (c)(8), and (c)(9)(A)(ii) of the “Government in the Sunshine Act” (5 U.S.C. 552b(c)(6), (c)(8), and (c)(9)(ii)).

The meeting was held in the Board Room of the FDIC Building located at 550-17th Street, NW., Washington, DC.

Dated: June 28, 2004.
Federal Deposit Insurance Corporation.
Valerie J. Best,
Assistant Executive Secretary.

[FR Doc. 04-15093 Filed 6-29-04; 1:54 pm]

BILLING CODE 6714-01-M